DEPARTMENT OF ENERGY

Western Area Power Administration

Notice of Cancellation of the Transmission Agency of Northern California Transmission Project, Environmental Impact Statement

AGENCY: Western Area Power Administration, DOE.

ACTION: Cancellation of Transmission Agency of Northern California Transmission Project Environmental Impact Statement.

SUMMARY: Western Area Power Administration (Western), an agency of the Department of Energy (DOE), is canceling preparation of the Environmental Impact Statement/Environmental Impact Report (EIS/EIR) for construction, operation, and maintenance of the proposed Transmission Agency of Northern California (TANC) Transmission Project, which would have included building and upgrading over 600 miles of 230-kilovolt (kV) and 500-kV transmission lines and associated equipment and facilities in northern California.

FOR FURTHER INFORMATION CONTACT: For further information, please contact Mr. David Young, NEPA Document Manager, Western Area Power Administration, Sierra Nevada Region, 114 Parkshore Drive, Folsom, CA 95630, telephone (916) 353-4777, fax (916) 353-4772, or e-mail TTPEIS@wapa.gov. For general information on DOE's NEPA review procedures or status of a NEPA review, contact Ms. Carol M. Borgstrom, Director of NEPA Policy and Compliance, GC-20, U.S. Department of Energy, 1000 Independence Avenue SW., Washington, DC 20585, telephone (202) 586-4600 or (800) 472-2756.

SUPPLEMENTARY INFORMATION: On February 23, 2009, Western issued a Notice of Intent to prepare an EIS/EIR for the construction, operation, and maintenance of the TANC Transmission Project (74 FR 8086).¹ The project, as proposed, would have included building and upgrading over 600 miles of 230-kV and 500-kV transmission lines and associated equipment and facilities in northern California. In its Notice of Intent, Western described the schedule for scoping meetings for the EIS/EIR, and advised the public that comments regarding the scope of the EIS/EIR were due by April 30, 2009. Western held all public scoping meetings as scheduled. Because of requests from agencies and the public for more time to comment, Western extended the scoping period twice, with a final comment closing on July 30, 2009.

¹ On July 1, 1996, DOE's Assistant Secretary for Environmental, Safety and Health delegated to Western's Administrator, the authority to approve EISs for integrating main transmission system additions.

On July 15, 2009, the TANC Commission voted to terminate proceeding further with the environmental process and to stop development work for the TANC Transmission Project. On August 3, 2009, Western received notification from TANC, terminating its agreement with Western to prepare the EIS/EIR. Termination of the agreement terminates Western's obligation to prepare the EIS/EIR and involvement in the TANC Transmission Project. As a result, Western has ceased preparation of the EIS/EIR.

Dated: August 27, 2009.
Timothy J. Meeks,
Administrator.

[FR Doc. E9-21850 Filed 9-9-09; 8:45 am]

BILLING CODE 6450-01-P